DEPARTMENT OF TRANSPORTATION

Federal Aviation Administration

14 CFR Part 39

[Docket No. FAA-2025-0617; Project Identifier MCAI-2024-00331-R; Amendment 39-23075; AD 2025-13-09]

RIN 2120-AA64

Airworthiness Directives; Airbus Helicopters

AGENCY: Federal Aviation Administration (FAA), DOT.

ACTION: Final rule.

SUMMARY: The FAA is adopting a new airworthiness directive (AD) for all Airbus Helicopters Model AS-365N2, AS 365 N3, EC 155B, EC155B1, SA-365N, and SA-365N1 helicopters. This AD was prompted by reports of loss of tightening torque between the upper ball bearing end and the main rotor (MR) servo-control. This AD requires inspecting the tightening torque and, depending on the results, taking corrective action. This AD also requires reporting information. The FAA is issuing this AD to address the unsafe condition on these products.

DATES: This AD is effective August 14, 2025.

The Director of the Federal Register approved the incorporation by reference of a certain publication listed in this AD as of August 14, 2025.

ADDRESSES:

AD Docket: You may examine the AD docket at regulations.gov under Docket No. FAA-2025-0617; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; phone: +49 221 8999 000; email: ADs@easa.europa.eu; website: easa.europa.eu. You may find this material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-0617.

FOR FURTHER INFORMATION CONTACT: Peter Schmitt, Aviation Safety Engineer, FAA, 1600 Stewart Avenue, Suite 410, Westbury, NY 11590; phone: (206) 231-3377; email: peter.a.schmitt@faa.gov.

SUPPLEMENTARY INFORMATION:

Background

The FAA issued a notice of proposed rulemaking (NPRM) to amend 14 CFR part 39 by adding an AD that would apply to Airbus Helicopters Model AS-365N2, AS 365 N3, EC 155B, EC155B1, SA-365N, and SA-365N1 helicopters. The NPRM was published in the Federal Register on April 15, 2025 (90 FR 15667). The NPRM was prompted by EASA AD 2024-0110, dated June 6, 2024 (EASA AD 2024-0110) (also referred to as the MCAI), issued by EASA, which is the Technical Agent for the Member States of the European Union. The MCAI states two occurrences were reported of loss of tightening torque between the upper ball bearing end and the MR servo-control, which in one occurrence, led to the disconnection of these two parts. The MCAI further states that the investigation is still on-going to determine the root cause. EASA considers this MCAI an interim action and further action may follow.

In the NPRM, the FAA proposed to require inspecting the tightening torque and, depending on the results, taking corrective action. Additionally, in the NPRM the FAA proposed to require reporting certain information.

The FAA is issuing this AD to detect loss of tightening torque. The unsafe condition, if not addressed, could result in disconnection between the upper ball bearing end and the MR servo-control, and consequent loss of control of the helicopter.

You may examine the MCAI in the AD docket at regulations.gov under Docket No. FAA-2025-0617.

Discussion of Final Airworthiness Directive

Comments

The FAA received no comments on the NPRM or on the determination of the costs.

Conclusion

These products have been approved by the civil aviation authority of another country and are approved for operation in the United States. Pursuant to the FAA's bilateral agreement with this State of Design Authority, that authority has notified the FAA of the unsafe condition described in the MCAI referenced above. The FAA reviewed the relevant data and determined that air safety requires adopting this AD as proposed. Accordingly, the FAA is issuing this AD to address the unsafe condition on these products. Except for minor editorial changes, this AD is adopted as proposed in the NPRM.

Material Incorporated by Reference Under 1 CFR Part 51

EASA AD 2024-0110 requires a one-time check of the torque on each nut connecting the upper ball bearing end to all three MR servo-controls and, depending on the results, taking corrective actions, which include applying torque, lockwire, and sealing compound to the upper ball bearing end of the MR servo-control, inspecting the ball bearing end of the MR-servo control, replacing a ball bearing end, inspecting the upper end fitting of the MR-servo control, and replacing the MR servo-control. EASA AD 2024-0110 also requires reporting the inspection results (including no findings) to AH [Airbus Helicopters].

This material is reasonably available because the interested parties have access to it through their normal course of business or by the means identified in the ADDRESSES section.

Differences Between This AD and the MCAI

The MCAI, as well as the material referenced in the MCAI, refer to the “torque inspection” as a “check.” In an FAA AD, a “check” may be done by the owner/operator (pilot) holding at least a private pilot certificate provided certain criteria are met. The authorization for a “check” in an FAA AD is an exception to the FAA's standard maintenance regulations and the criteria is not met in this AD. Accordingly, this AD requires those actions be accomplished by persons authorized under 14 CFR 43.3.

Interim Action

The FAA considers that this AD is an interim action. If final action is later identified, the FAA might consider further rulemaking then.

Costs of Compliance

The FAA estimates that this AD affects 63 helicopters of U.S. registry. Labor costs are estimated at $85 per hour. Based on these numbers, the FAA estimates the following costs to comply with this AD.

Inspecting the tightening torque of the upper ball bearing end of each MR servo control will take 1 work-hour for an estimated cost of $255 per helicopter (three MR servo-controls per helicopter) and $16,065 for the U.S. fleet.

Reporting the results of the inspection will take 1 work-hour for an estimated cost of $85 per helicopter and $5,355 for the U.S. fleet.

If required, applying torque, lock-wire, and sealing compound to the upper ball bearing end of each MR servo-control will take .5 work-hour and parts will cost a nominal amount for an estimated cost of $127.50 per helicopter (for up to three MR servo-controls per helicopter).

If required, inspecting the threads of a ball bearing end will take 1 work-hour for an estimated cost of $85 per ball bearing end. Depending on the results, replacing a ball bearing end will take 1 work-hour and parts will cost $1,299 for an estimated cost of $1,384 per ball bearing end.

If required, inspecting the threads of an upper end fitting will take 1 work-hour for an estimated cost of $85 per upper-end fitting. Depending on the results, replacing an MR servo-control will take 1 work-hour and parts will cost $41,039 for an estimated cost of $41,124 per MR servo-control.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-13-09 Airbus Helicopters: Amendment 39-23075; Docket No. FAA-2025-0617; Project Identifier MCAI-2024-00331-R.

(a) Effective Date

This airworthiness directive (AD) is effective August 14, 2025.

(b) Affected ADs

None.

(c) Applicability

This AD applies to Airbus Helicopters Model AS-365N2, AS 365 N3, EC 155B, EC155B1, SA-365N, and SA-365N1 helicopters, certificated in any category.

(d) Subject

Joint Aircraft System Component (JASC) Code 6710, Main rotor control.

(e) Unsafe Condition

This AD was prompted by reports of two occurrences of loss of tightening torque between the upper ball bearing end and the main rotor (MR) servo-control. The FAA is issuing this AD to detect loss of tightening torque. The unsafe condition, if not addressed, could result in disconnection between the upper ball bearing end and the MR servo-control, and consequent loss of control of the helicopter.

(f) Compliance

Comply with this AD within the compliance times specified, unless already done.

(g) Required Actions

Except as specified in paragraph (h) of this AD: Comply with all required actions and compliance times specified in, and in accordance with, European Union Aviation Safety Agency AD 2024-0110, dated June 6, 2024 (EASA AD 2024-0110).

(h) Exceptions to EASA AD 2024-0110

(1) Where EASA AD 2024-0110 defines “the ASB”, this AD requires replacing that definition with “Airbus Helicopters Alert Service Bulletin (ASB) AS365-67-30-0001, AS366-67-30-0001, or EC155-67-30-0001, each Issue 2 and dated May 15, 2024, as applicable for the model helicopter. For compliance with this AD, Model SA-365N and SA-365N1 helicopters are to use ASB AS365-67-30-0001, Issue 2, dated May 15, 2024”.

(2) Where EASA AD 2024-0110 requires compliance in terms of flight hours, this AD requires using hours time-in-service.

(3) Where EASA AD 2024-0110 refers to its effective date, this AD requires using the effective date of this AD.

(4) Where paragraph (1) of EASA AD 2024-0110 and the material referenced in EASA AD 2024-0110 specify “check”, this AD requires replacing that text with “inspect” or “inspection” as applicable.

(5) Where the material referenced in EASA AD 2024-0110 specifies discarding parts, this AD requires removing those parts from service.

(6) Where the material referenced in EASA AD 2024-0110 specifies hard point, for this AD a hard point may be indicated by resistance, ratcheting, blocking, or difficulty when turning the ball bearing end into the upper end fitting of the MR servo-control by hand.

(7) Where paragraph (3) of EASA AD 2024-0110 specifies reporting inspection results (including no findings) to AH [Airbus Helicopters] within 7 days after the inspection required by paragraph (1) of EASA AD 2024-0110, this AD requires reporting that information at the applicable time in paragraph (h)(7)(i) or (ii) of this AD.

(i) If the inspection was done on or after the effective date of this AD: Submit the report within 30 days after the inspection required by paragraph (1) of EASA AD 2024-0110.

(ii) If the inspection was done before the effective date of this AD: Submit the report within 30 days after the effective date of this AD.

(8) This AD does not adopt the “Remarks” section of EASA AD 2024-0110.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j) of this AD. Information may be emailed to: AMOC@faa.gov.

(2) Before using any approved AMOC, notify your appropriate principal inspector, or lacking a principal inspector, the manager of the local flight standards district office/certificate holding district office.

(j) Additional Information

For more information about this AD, contact Peter Schmitt, Aviation Safety Engineer, FAA, 1600 Stewart Avenue, Suite 410, Westbury, NY 11590; phone: (206) 231-3377; email: peter.a.schmitt@faa.gov.

(k) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2024-0110, dated June 6, 2024.

(ii) [Reserved]

(3) For EASA material identified in this AD, contact EASA, Konrad-Adenauer-Ufer 3, 50668 Cologne, Germany; phone: +49 221 8999 000; email: ADs@easa.europa.eu; website: easa.europa.eu. You may find this EASA AD on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on July 1, 2025.
Steven W. Thompson,
Acting Deputy Director, Compliance & Airworthiness Division, Aircraft Certification Service.

[FR Doc. 2025-12873 Filed 7-9-25; 8:45 am]

BILLING CODE 4910-13-P